DEPARTMENT OF THE INTERIOR

National Park Service

[NPS-WASO-NRNHL-1011-8743; 2200-3200-665]

National Register of Historic Places; Notification of Pending Nominations and Related Actions

Nominations for the following properties being considered for listing or related actions in the National Register were received by the National Park Service before October 15, 2011. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington DC 20005; or by fax, (202) 371-6447. Written or faxed comments should be submitted by November 17, 2011. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

ARIZONA

Maricopa County

Palo Verde Ruin, Address Restricted, Peoria, 11000842

DELAWARE

New Castle County

Carswell, Stuart Randall & Pricilla Kellogg, House, 102 Briar Ln., Newark, 11000844

DISTRICT OF COLUMBIA

District of Columbia

Washington, Margaret Murray, School, (Public School Buildings of Washington, DC MPS) 27 O St., NW., Washington, 11000843

ILLINOIS

Champaign County

Ahrens, Henry, House, 212 E. University Ave., Champaign, 11000845

Squires, Frederick, House, 1003 W. Church St., Champaign, 11000846

Cook County

Building at 2440 N. Lakeshore Avenue, 2440 N. Lakeshore Ave., Chicago, 11000847

Parkway Garden Homes, 6330-6546 S. Martin Luther King Dr., Chicago, 11000848

Wholesale Florists Exchange, 1313 W. Randolph St., Chicago, 11000849

La Salle County

Ottawa Commercial Historic District, Roughly 600-1129 Columbus St., 601-1215 LaSalle St., Ottawa, 11000850

Winnebago County

Peacock Brewery, 200 Prairie & 500 N. Madison Sts., Rockford, 11000851

MARYLAND

Baltimore County

Bare Hills Historic District, Falls Rd. between Light Rail and N. of Coppermine Terr., Bare Hills, 11000852

MASSACHUSETTS

Essex County

Sacred Heart Parish Complex, 321 S. Broadway, Lawrence, 11000853

Middlesex County

Acton High School, 3 Charter Rd., Acton, 11000854

OHIO

Montgomery County

Woodland Cemetery Association of Dayton Historic District, 118 Woodland Ave., Dayton, 11000855

Stark County

Louisville Historic District, Roughly bounded by Chapel, Lincoln, St. Louis Ct., Nickelplate, E. Gorgas, & Center Ct., Louisville, 11000856

VIRGINIA

Lancaster County

Village of Morattico Historic District, Portions of Morattico Rd., Riverside, & Saltwater Drs., Church, & Sea Shell Lns., Mulberry Creek, & Water View Rds., Morattico, 11000857

[FR Doc. 2011-28331 Filed 11-1-11; 8:45 am]

BILLING CODE 4312-51-P